DEPARTMENT OF TRANSPORTATION

Federal Aviation Administration

14 CFR Part 39

[Docket No. FAA-2020-1033; Project Identifier MCAI-2020-01393-R]

RIN 2120-AA64

Airworthiness Directives; Airbus Helicopters

AGENCY: Federal Aviation Administration (FAA), DOT.

ACTION: Notice of proposed rulemaking (NPRM).

SUMMARY: The FAA proposes to supersede Airworthiness Directive (AD) 2017-17-01, which applies to certain Airbus Helicopters Model AS332L2 and EC225LP helicopters. AD 2017-17-01 requires repetitive inspections of the main rotor blade (MRB) attachment pins. Since issuing AD 2017-17-01, the FAA has determined that it is necessary to measure the attachment pin chamfer after corrosion removal, that replacement of an attachment pin after four corrosion removals is no longer necessary, and that all Airbus Helicopters Model AS332L2 and EC225LP helicopters are affected by the unsafe condition. This proposed AD would continue to require the repetitive inspections of the MRB attachment pins, and would include a new requirement to repetitively measure the attachment pin chamfer at certain intervals after corrosion removal, as specified in a European Aviation Safety Agency (EASA) AD, which will be incorporated by reference. This proposed AD would also continue to require replacing the attachment pin if there is corrosion pitting. The FAA is proposing this AD to address the unsafe condition on these products.

DATES: The FAA must receive comments on this proposed AD by January 8, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2020-1033.

Examining the AD Docket

You may examine the AD docket on the internet at https://www.regulations.gov by searching for and locating Docket No. FAA-2020-1033; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Katherine Venegas, Aviation Safety Engineer, Cabin Safety, Mechanical and Environmental Systems Section, Los Angeles ACO Branch, FAA, 3960 Paramount Boulevard, Lakewood, CA 90712-4137; phone: 562-627-5353; email: katherine.venegas@faa.gov.

SUPPLEMENTARY INFORMATION:

Comments Invited

The FAA invites you to participate in this rulemaking by submitting written comments, data, or views about this proposal. The most helpful comments reference a specific portion of the proposal, explain the reason for any recommended change, and include supporting data. To ensure the docket does not contain duplicate comments, commenters should submit only one copy of the comments. Send your comments to an address listed under the ADDRESSES section. Include “Docket No. FAA 2020-1033; Project Identifier MCAI-2020-01393-R” at the beginning of your comments.

Except for Confidential Business Information (CBI) as described in the following paragraph, and other information as described in 14 CFR 11.35, the FAA will post all comments received, without change, as well as a report summarizing each substantive public contact with FAA personnel concerning this proposed rulemaking. Before acting on this proposal, the FAA will consider all comments received by the closing date for comments. The FAA will consider comments filed after the comment period has closed if it is possible to do so without incurring expense or delay. The FAA may change this NPRM because of those comments.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Katherine Venegas, Aviation Safety Engineer, Cabin Safety, Mechanical and Environmental Systems Section, Los Angeles ACO Branch, FAA, 3960 Paramount Boulevard, Lakewood, CA 90712-4137; phone: 562-627-5353; email: katherine.venegas@faa.gov. Any commentary that the FAA receives that is not specifically designated as CBI will be placed in the public docket for this rulemaking.

Discussion

The FAA issued AD 2017-17-01, Amendment 39-18991 (82 FR 39506, August 21, 2017) (AD 2017-17-01), which applies to certain Airbus Helicopters Model AS332L2 and EC225LP helicopters. AD 2017-17-01 requires repetitive inspections of the MRB attachment pins and corrective actions, if necessary. The FAA issued AD 2017-17-01 to address cracked attachment pins which could result in loss of a MRB and subsequent loss of control of the helicopter.

Actions Since AD 2017-17-01 Was Issued

Since the FAA issued AD 2017-17-01, the FAA has determined that it is necessary to measure the attachment pin chamfer after corrosion removal, that replacement of an attachment pin after four corrosion removals is no longer necessary, and that all Airbus Helicopters Model AS332L2 and EC225LP helicopters are affected by the unsafe condition.

The EASA, which is the Technical Agent for the Member States of the European Union, has issued EASA AD 2018-0172, dated August 7, 2018 (EASA AD 2018-0172) (also referred to as the Mandatory Continuing Airworthiness Information, or the MCAI), to correct an unsafe condition for all Airbus Helicopters Model AS332L2 and EC225LP helicopters. EASA AD 2018-0172 superseded EASA AD 2015-0016, dated January 30, 2015 (which corresponds to FAA AD 2017-17-01).

This proposed AD was prompted by a report of three cracked MRB attachment pins and a determination that additional actions are necessary since the FAA issued AD 2017-17-01. The FAA is proposing this AD to address cracked attachment pins which could result in loss of an MRB and subsequent loss of control of the helicopter. See the MCAI for additional background information.

Related Service Information Under 1 CFR Part 51

EASA AD 2018-0172 describes procedures for repetitive inspections for corrosion and cracking of the attachment pins and corrective actions if necessary, and repetitive conditional measurement of the thickness of the chamfer of the attachment pins at certain intervals after corrosion removal. Corrective actions include corrosion removal and replacement of the attachment pins. This material is reasonably available because the interested parties have access to it through their normal course of business or by the means identified in the ADDRESSES section.

FAA's Determination and Requirements of This Proposed AD

This product has been approved by the aviation authority of another country, and is approved for operation in the United States. Pursuant to the bilateral agreement with the State of Design Authority, the FAA has been notified of the unsafe condition described in the MCAI referenced above. The FAA is proposing this AD because the FAA evaluated all the relevant information and determined the unsafe condition described previously is likely to exist or develop in other products of the same type design.

Explanation of Retained Requirements

Although this proposed AD does not explicitly restate the requirements of AD 2017-17-01, this proposed AD would retain certain requirements of AD 2017-17-01. Those requirements are referenced in EASA AD 2018-0172, which, in turn, is referenced in paragraphs (g), (h)(4), and (h)(5) of this proposed AD.

Proposed AD Requirements

This proposed AD would require accomplishing the actions specified in EASA AD 2018-0172 described previously, as incorporated by reference, except for any differences identified as exceptions in the regulatory text of this AD and except as discussed under “Differences Between this Proposed AD and the MCAI.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2018-0172 will be incorporated by reference in the FAA final rule. This proposed AD would, therefore, require compliance with EASA AD 2018-0172 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2018-0172 that is required for compliance with EASA AD 2018-0172 will be available on the internet at https://www.regulations.gov by searching for and locating Docket No. FAA-2020-1033 after the FAA final rule is published.

Differences Between This Proposed AD and the MCAI

EASA AD 2018-0172 requires an inspection of the affected part in accordance with the applicable service information. The service information for Model AS332L helicopters and the service information for Model EC225LP helicopters both describe procedures for an inspection for corrosion and cracking of the attachment pins. However, the service information for Model AS332L helicopters also describes an inspection of the protective coating of each attachment pin for scratches and missing protective coating and sanding if necessary; the service information for Model EC225LP helicopters does not describe those actions.

Although EASA AD 2018-0172 requires corrective actions if there is corrosion or cracking of the attachment pins, EASA AD 2018-0172 does not require any corrective actions if there is any scratch or any missing protective coating.

This proposed AD would require inspecting the protective coating of each attachment pin for scratches and missing protective coating, and sanding if there is any scratch or any missing protective coating, for all affected helicopters.

EASA AD 2018-0172 requires removing corrosion but does not provide a corrective action if there are corrosion pits. This proposed AD would require replacing an attachment pin that has any corrosion pitting.

The service information referenced in EASA AD 2018-0172 specifies to do a non-destructive inspection if in doubt about whether there is a crack; that action is not required by this proposed AD.

The service information referenced in EASA AD 2018-0172 specifies contacting Airbus Helicopters if any attachment pin with a crack is found and returning that part to Airbus Helicopters; those actions are not required by this proposed AD.

Costs of Compliance

The FAA estimates that this proposed AD affects 28 helicopters of U.S. registry. The FAA estimates the following costs to comply with this proposed AD:

Estimated Costs for Required Actions *
Action | Labor cost | Parts cost | Cost per product | Cost on U.S. operators
Retained actions from AD 2017-17-01 | 1 work-hour × $85 per hour = $85 per inspection cycle | $0 | $85 per inspection cycle | $2,380 per inspection cycle.

The FAA estimates the following costs to do any necessary on-condition measurements (new proposed action), corrosion removal, and replacements that would be required based on the results of any required actions. The FAA has no way of determining the number of aircraft that might need these on-condition measurements, corrosion removal, and replacements:

Estimated Costs of On-Condition Actions
Labor cost | Parts cost | Cost per product
Up to 11 work-hours × $85 per hour = Up to $935 | Up to $5,720 | Up to $6,655.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-17-01, Amendment 39-18991 (82 FR 39506, August 21, 2017), and adding the following new AD:

Airbus Helicopters: Docket No. FAA-2020-1033; Project Identifier MCAI-2020-01393-R.

(a) Comments Due Date

The FAA must receive comments by January 8, 2021.

(b) Affected Airworthiness Directives (ADs)

This AD removes AD 2017-17-01, Amendment 39-18991 (82 FR 39506, August 21, 2017) (AD 2017-17-01).

(c) Applicability

This AD applies to all Airbus Helicopters Model AS332L2 and EC225LP helicopters, certificated in any category.

(d) Subject

Joint Aircraft System Component (JASC) Codes 6200, Main Rotor System.

(e) Reason

This AD was prompted by a report of three cracked main rotor blade (MRB) attachment pins. The FAA is issuing this AD to address cracked MRB attachment pins which could result in loss of an MRB and subsequent loss of control of the helicopter.

(f) Compliance

Comply with this AD within the compliance times specified, unless already done.

(g) Requirements

Except as specified in paragraph (h) of this AD: Comply with all required actions and compliance times specified in, and in accordance with, European Aviation Safety Agency (now European Union Aviation Safety Agency) (EASA) AD 2018-0172, dated August 7, 2018 (EASA AD 2018-0172).

(h) Exceptions to EASA AD 2018-0172

(1) Where EASA AD 2018-0172 refers to its effective date, this AD requires using the effective date of this AD.

(2) Where EASA AD 2018-0172 refers to February 13, 2015 (the effective date of EASA AD 2015-0016, dated January 30, 2015), this AD requires using September 25, 2017 (the effective date of AD 2017-17-01).

(3) The “Remarks” section of EASA AD 2018-0172 does not apply to this AD.

(4) Where paragraph (1) of EASA AD 2018-0172 specifies to inspect each affected part, for this AD, prior to the inspection for corrosion, inspect the protective coating on the inside of the attachment pin for scratches and missing protective coating. If there is any scratch or any missing protective coating, prior to the inspection for corrosion, sand the attachment pin to remove the varnish in the area depicted as “Area A” in Figure 1 of the “applicable ASB” as defined in EASA AD 2018-0172.

(5) Where paragraph (3) of EASA AD 2018-0172 requires removing corrosion, for this AD, if there is any corrosion pitting, before further flight, replace the affected attachment pin. Do not sand the attachment pin to remove a corrosion pit.

(6) Although the service information referenced in EASA AD 2018-0172 specifies to do a non-destructive inspection if in doubt about whether there is a crack, that action is not required by this AD.

(7) Although the service information referenced in EASA AD 2018-0172 specifies contacting Airbus Helicopters if any attachment pin with a crack is found and returning that part to Airbus Helicopters, those actions are not required by this AD.

(8) Although the service information referenced in EASA AD 2018-0172 specifies discarding certain parts, that action is not required by this AD.

(9) Where EASA AD 2018-0172 refers to flight hours (FH), this AD requires using hours time-in-service.

(i) Special Flight Permit

Special flight permits, as described in 14 CFR 21.197 and 21.199, are not allowed.

(j) Alternative Methods of Compliance (AMOCs)

The Manager, Rotorcraft Standards Branch, FAA, may approve AMOCs for this AD. Send your proposal to: Manager, Rotorcraft Standards Branch, FAA, 10101 Hillwood Pkwy., Fort Worth, TX 76177; phone: 817-222-5110; email: 9-ASW-FTW-AMOC-Requests@faa.gov.

(k) Related Information

(1) For EASA AD 2018-0172, contact the EASA, Konrad-Adenauer-Ufer 3, 50668 Cologne, Germany; phone: +49 221 8999 000; email: ADs@easa.europa.eu; internet: www.easa.europa.eu. You may find this EASA AD on the EASA website at https://ad.easa.europa.eu. You may view this material at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2020-1033.

(2) For more information about this AD, contact Katherine Venegas, Aviation Safety Engineer, Cabin Safety, Mechanical and Environmental Systems Section, Los Angeles ACO Branch, FAA, 3960 Paramount Boulevard, Lakewood, CA 90712-4137; phone: 562-627-5353; email: katherine.venegas@faa.gov.

Issued on November 17, 2020.
Lance T. Gant,
Director, Compliance & Airworthiness Division, Aircraft Certification Service.

[FR Doc. 2020-25738 Filed 11-23-20; 8:45 am]

BILLING CODE 4910-13-P